DEPARTMENT OF TRANSPORTATION

Pipeline and Hazardous Materials Safety Administration

Office of Hazardous Materials Safety; Actions on Exemption Applications

AGENCY: Pipeline and Hazardous Materials Safety Administration, DOT.

ACTION: Notice of actions on exemption applications.

SUMMARY: In accordance with the procedures governing the application for, and the processing of, exemptions from the Department of Transportation's Hazardous Material Regulations (49 CFR part 107, subpart B), notice is hereby given of the actions on exemption applications in January 2005 to August 2005. The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Exemptions. It should be noted that some of the sections cited were those in effect at the time certain exemptions were issued.

Issued in Washington, DC, on September 26, 2005.
R. Ryan Posten,
Exemptions Program Officer, Office of Hazardous Materials Safety Exemptions & Approvals.

Exemption No. | Docket No. | Applicant | Regulation(s) | Nature of exemption thereof
MODIFICATION EXEMPTION GRANTED
11691-M |  | PepsiCo International, Valhalla, NY | 49 CFR 176.83(d); 176.331; 176.800(a) | To modify the exemption to update a proper shipping description and authorize the transportation of a Class 9 material with Class 3 and Class 8 materials not subject to the segregation requirements for vessel storage when shipped in the same transport vehicle.
12643-M | RSPA-01-9066 | Northup Grumman Space Technology, Redondo Beach, CA | 49 CFR 173.302 and 175.3 | To modify the exemption to authorize an additional design change to the pulse tube cooler with an increased volume to 1100 cc and test pressure to 915 psig shipped inside a strong, foam filled shipping container.
11917-M | RSPA-97-2741 | Sexton Can Company, Inc., Decatur, AL | 49 CFR 173.304(a) | To modify the exemption to authorize an increased water capacity limit to 40.4 cubic inches and the transportation of an additional Division 2.1 material in non-DOT specification, non-refillable steel cylinders.
7465-M |  | State of Alaska Department of Transportation & Public Facilities, Juneau, AK | 49 CFR 172; 173.220 | To modify the exemption to authorize the addition of a new ferry vessel to the existing passenger ferry fleet.
7928-M |  | State of Alaska Department of Transportation & Public Facilities, Juneau, AK | 49 CFR 172.101; 176.905(L) | To modify the exemption to authorize the addition of a new ferry vessel to the existing passenger ferry fleet.
12844-M | RSPA-01-10753 | Delphi Automotive Systems, Vandalia, OH | 49 CFR 173.301(a)(1); 173.302a(a); 175.3 | To modify the exemption to authorize an increase of the maximum service pressure to 7,200 psig for the non-DOT specification pressure vessels.
12995-M | RSPA-02-12220 | Dow Chemical Company, Midland, MI | 49 CFR 173.306(a)(3)(v) | To modify the exemption to authorize the use of the DOT 2Q specification container with an increased container pressure not to exceed 180 psig at 55 degrees C.
13322-M | RSPA-03-16595 | UXB International Inc., Blackburg, VA | 49 CFR 172.320; 173.54(a); 173.56(b); 173.58 | To modify the exemption to authorize the transportation of liquid explosives.
13996-M | RSPA-04-19660 | North American Automotive Hazardous Material Action Committee (NAAHAC), Washington, MI | 49 CFR 173.166(e)(4) | To reissue the exemption originally issued on an emergency basis for the transportation of airbag inflators/modules/pyrotechnic seat belt pretensioners in reusable high stretch plastic or metal containers or dedicated handling devices.
11606-M |  | Safety-Kleen Systems, Inc., Humble, TX | 49 CFR 173.28(b)(2) | To modify the exemption to authorize the transportation of an additional Division 6.1 and Class 8 material in UN Standard 1A1 and 1A2 drums and non-DOT specifications metal drums.
11244-M |  | Supercritical Thermal Systems, Inc., (formerly Aerospace Design & Development, Inc.), Longmont, CO | 49 CFR 173.316(c); 178.57 | To modify the exemption to authorize an alternative outer shell material for the non-DOT specification titanium alloy cylinder transporting a Division 2.2 material.
11281-M |  | E.I. du Pont de Nemours & Company, Wilmington, DE | 49 CFR 172.101, Column 7, Special Provisions B14, T38 | To modify the exemption to authorize the use of an additional portable tank specification and the transportation of an additional Class 8 material.
12842-M | RSPA-01-10751 | Onyx Environmental Services, L.L.C., Flanders, NJ | 49 CFR 173.156(b) | To modify the exemption to authorize a reoffering provision of the package to a non-holder of the exemption and transportation of Division 2.1 and Division 2.2 materials to an alternative disposal facility.
13245-M | RSPA-03-15985 | Piper Metal Forming Corporation (formerly Quanex), New Albany, MS | 49 CFR 173.302(a)(1); 175.3 | To modify the exemption to authorize the use of non-refillable, non-DOT specification cylinders for all gases approved for shipment in DOT-3AL Specification cylinders.
13323-M | RSPA-03-16488 | U.S. Department of the Interior/U.S. Geological Survey, Woods Hole, MA | 49 CFR 173.302a | To modify the exemption to authorize an alternative higher pressure-rated cover for the non-DOT specification cylinders transporting a Division 2.1 material.
13548-M | RSPA-04-17545 | Battery Council International (BCI) | 49 CFR 173.159 | To modify the exemption to authorize alternative classifications for the transportation of battery fluid, acid.
13598-M | RSPA-04-18706 | Jadoo Power Systems Inc. Folsom, CA | 49 CFR 173.301(a)(1), (d) and (f) | To modify the exemption to authorize an increased maximum water capacity to 3.25 pounds for the hydride canister design and the use of UN4G fiberboard boxes.
14145-M | PHMSA-05-20834 | T-AKE Naval Sea Systems Command, Washington, DC | 49 CFR 176.116 | To reissue the exemption originally issued on an emergency basis for the transportation of certain Class 1 materials by vessel and provide relief from the general stowage requirements for Class 1 materials.
14165-M | PHMSA-05-20619 | Saint Louis, University—Center for Vaccine Development, St. Louis, MO | 49 CFR 173.196 | To modify the exemption to extend the expiration date to complete the one-time, one-way transportation of infectious substances and diagnostic specimens in containers not authorized in the HMR.
9880-M |  | GE Reuter-Stokes, Inc., Twinsburg, OH | 49 CFR 173.302a; 175.3; Part 172 Subpart E and F | To modify the exemption to authorize an increase in design pressure to 440 psig for the non-DOT specification containers transporting Division 2.2 materials.
10048-M |  | Epichem, Inc., Haverhill, MA | 49 CFR 173.181; 173.187; 173.201; 202, 211, 212, 216, 227 | To modify the exemption to update various proper shipping names and UN numbers for the Division 4.2, 4.3 and 6.1 materials transported in a UN1A2 drum inside a non-DOT specification metal container.
11379-M |  | TRW Occupant Safety Systems, Washington, MI | 49 CFR 173.301(h), 173.302(a); 175.3 | To modify the exemption to increase the maximum service pressure at 70 degrees F for the non-DOT specification pressure vessels for use as components of safety systems.
12920-M | RSPA-02-11638 | Epichem, Inc., Haverhill, MA | 49 CFR 173.181(c) | To modify the exemption to update the proper shipping name and UN number for a Division 4.2 material transported in combination packagings with inner containers that exceed authorized quantities.
13207-M | RSPA-03-15068 | BEI Hawaii, Honolulu, HI | 49 CFR 173.32(f)(5) | To modify the exemption to authorize the use of additional DOT Specification IM 101 steel portable tanks that do not conform to the filling density requirements for the transportation of a Class 8 material.
13220-M | RSPA-03-14968 | Advanced Technology Materials, Inc. (ATMI), Danbury, CT | 49 CFR 173.301; 173.302; 173.304; 173.315 | To modify the exemption to authorize the use of alternative manufacturers, cylinder shapes and mixed metal construction for the non-DOT specification welded pressure vessels.
11970-M | RSPA-97-2993 | Albermarle Corp., Baton Rouge, LA | 49 CFR, 172.101; 178.245-1(c) | To modify the exemption to authorize an additional proper shipping name for the Division 4.2 material transported in a non-DOT specification portable tank.
14170-M | PHMSA-05-20714 | General Dynamics Armament & Technical Products, Lincoln, NE | 49 CFR 173.301 and 173.306 | To reissue the exemption originally issued on an emergency basis for transportation of certain compressed gases in non-DOT specification fiberglass reinforced plastic cylinders.
11606-M |  | Safety-Kleen Systems, Inc., Humble, TX | 49 CFR 173.28(b)(2) | To modify the exemption to authorize the transportation of an additional Class 3 material in UN Standard 1A1, 1A2 and non-DOT specification steel drums.
13616-M | RSPA-2004-18578 | U.S. Department of Commerce, Anchorage, AK | 49 CFR 172.101, Column 9B | To reissue the exemption originally issued on an emergency basis for transportation of a Division 2.2 material in DOT Specification cylinders that are manifolded together and exceed the quantity limitations for cargo aircraft only.
13312-M | RSPA-2004-19656 | Air Products & Chemicals, Inc., Allentown, PA | 49 CFR 173.301(f)(3); 180.205(c)(4) | To authorize an alternative retesting method for DOT-3, 3A, 3AA cylinders used in transporting Division 2.1 hazardous materials.
14171-M | PHMSA-05-20832 | NASA, Houston, TX | 49 CFR 173.301(f) | To reissue the exemption originally issued on an emergency basis for transportation of a Division 2.2 material in non-DOT specification cylinders without pressure relief devices.
14193-M | PHMSA-05-21763 | Honeywell, Morristown, NJ | 49 CFR 173.313 | To reissue the exemption originally issued on an emergency basis for transportation of non-DOT specification IMO Type 5 portable tanks, mounted in an ISO frame, containing certain Division 2.2 and 2.3 materials.
14194-M | PHMSA-05-21246 | Zippo Manufacturing Corporation, Bradford, PA | 49 CFR 173.21, 173.24, 173.27, 173.308, 175.5, 175.10, 175.30, 175.33 | To reissue the exemption originally issued on an emergency basis for the transportation of Zippo lighters in special travel containers in checked luggage on commercial passenger-carrying aircraft.
13977-M | RSPA-005-20129 | Aethra Aviation Technologies, Farmingdale, NY | 49 CFR 173.302a; 175.3 | To reissue the exemption previously issued on an emergency basis for the transportation of a Division 2.2 and Class 9 material in certain cylinders that are charged in excess of their marked pressure used as components in aircraft.
11318-M |  | Akzo Nobel Chemicals, Inc., Chicago, IL | 49 CFR 172.101 Special Provision B14 | To modify the exemption to authorize the transportation of an additional Division 6.1 material in uninsulated DOT Specification 51 portable tanks.
10695-M |  | 3M Company, St. Paul, MN | 49 CFR 172.101; 172.504; 172.505(a); 173.323; 174.81; 176.84; 177.848 | To modify the exemption to authorize a revision to the 3M Steri-Gas Cartridge Return Procedures containing a Division 2.3 material transported in UN4G fiberboard boxes.
9830-M |  | Worthington Cylinder Corporation, Columbus, OH | 49 CFR 173.201; 173.202; 173.203; 173.302a(a); 173.304a(a) & (d); 175.3 | To modify the exemption to authorize the transportation of certain Class 8 materials in non-DOT specification steel cylinders by motor vehicle only.
10048-M |  | Epichem, Inc., Haverhill, MA | 49 CFR 173.181; 173.187; 173.201, 202, 211, 212, 226, 227 | To modify the exemption to authorize the transportation of additional Division 6.1 materials transported in a UN1A2 drum inside a non-DOT specification metal container.
13179-M | RSPA-02-14020 | Clean Harbors Environmental Services, Inc., Columbia, SC | 49 CFR 173.21; 173.308 | To modify the exemption to authorize the use of an alternative shipping description and hazard class for the Division 2.1 materials which are being transported to a disposal facility.
12630-M | RSPA-01-8850 | Chemetall GmbH Gesellschaft, 59500 Douai, France | 49 CFR 172.102(a)(2) and (c)(7)(ii) | To modify the exemption to authorize an additional proper shipping name for the Division 4.2 material transported in DOT Specification IM 101 portable tanks.
12475-M | RSPA-00-7484 | Chemetall Foote Corporation, Kings Mountain, NC | 49 CFR 173.181; 173.28(b)(2) | To modify the exemption to authorize an additional proper shipping name for the Division 4.2 and Division 4.3 material transported in UN1A1 drums.
10798-M |  | Chemetall Foote Corporation, Kings Mountain, NC | 49 CFR 174.67(i), (j) | To modify the exemption to authorize an additional proper shipping name for the Division 4.2 material transported in DOT Specification tank cars.
NEW EXEMPTION GRANTED
14137-N | RSPA-20346 | Mallinckrodt Baker, Inc., Phillipsburg, NJ | 49 CFR 172.102(c)(4), special provision IB2 | To authorize the transportation in commerce of Hycrochloric acid up to 38% concentration in intermediate bulk containers. (mode 1)
14139-N | RSPA-20344 | Commodore Advanced Sciences, Inc., Richland, WA | 49 CFR 173.244 in that a non-DOT steel vessel is not an authorized packaging, except under an exemption | To authorize the one-time, one-way transportation in commerce of solidified sodium metal in a non-DOT specification bulk packaging. (mode 1)
14144-N | RSPA-20337 | Lawrence Livermore National Laboratory, Livermore, CA | 49 CFR 173.212 | To authorize the one-time transportation in commerce of lithium hydride, fused solid inspecially designed no-bulk containers. (mode 1)
14152-N | PHMSA-20467 | Saes Pure Gas, Inc., San Luis Obispo, CA | 49 CFR 173.187 | To authorize the transportation of certain quantities of metal catalyst, classed as Division 4.2, in non-DOT specification pckaging that exceed the maximum net quantity allowed per package. (mode 4)
14154-N | PHMSA-20610 | Carleton Technologies, Inc | 49 CFR 173.302a, 173.304a, 180.209 | To authorize the manufacture, marking and sale of non-DOT specification fully wrapped carbon fiber reinforced aluminim lined cylinders for shipment of certain Division 2.2 gases. (modes 1, 2, 3, 4, 5)
14155-N | PHMSA-20606 | American Promotional Events, Inc., Florence, AL | 49 CFR 173.60 | To authorize the transportation in commerce of certain fireworks in non-DOT specification packagings when returned to the distributor. (mode 1)
14157-N | PHMSA-20609 | Worthington Cylinders of Canada Corp., Tilbury, Ontario N0P 2L0 | 49 CFR 173.302a | To authorize the manufacture, marking, sell and use of non-DOT specification cylinders similar to DOT 3AA for use in transporting certain nonflammable gases. (modes 1, 4)
14158-N | PHMSA-20611 | UTC Fuel Cells, LLC, South Windsor, CT | 49 CFR 176.83 | To authorize the transportation by vessel of a fuel cell power plant containing hazardous mateials that are not segregated as required by 49 CFR 176.83. (mode 3)
14164-N | PHMSA-20614 | Sigma-Aldrich Corporation, Milwaukee, WI | 49 CFR 173.181 | To authorize the transportation in commerce of non-DOT specification cylinders, similar to DOT 4BW cylinders, containing Trimethylaluminum. (modes 1, 2, 3)
14168-N | PHMSA-21796 | Matheson Tri-Gas East Rutherford, NJ | 49 CFR 173.3(d) | To authorize the transportation in commerce of salvage cylinders by cargo vessel. (mode 3)
14172-N | PHMSA-20906 | Pacific Bio-Material Management, Inc., Fresno, CA | 49 CFR 173.196 and 173.199 | To authorize the transportation in commerce of infectious substances in a large capacity liquid nitrogen freezer. (mode 1)
14176-N | PHMSA-20902 | Great Plains Industries, Inc., Wichita, KS | 49 CFR 173.242 | To authorize the manufacture, mark and sale of refueling tanks of up to 80 gallon capacity for use in transporting various Class 3 hazardous materials. (mode 1)
14183-N | PHMSA-21128 | LND, Inc, Oceanside, NY | 49 CFR 173.302a, 172.101(9A) | To authorize the manufacture, marking, sale and use of non-DOT specification sealed electron tube radiation sensors to transport Division 2.1 and 2.2 materials. (modes 1, 2, 3, 4, 5)
14186-N | PHMSA-21132 | Dow Chemical Company, Midland, MI | 49 CFR 179.13 | To authorize the transportation in commerce of Class 3 and 8 and Division 2.1 and 6.1 hazardous materials in DOT specification 105J300W tank car tanks that exceed the maximum allowable gross weight on rail (263,000 lbs.). (mode 2)
14196-N | PHMSA-21765 | Union Pacific Railroad, Omaha, NE | 49 CFR 174.67(i) and (j) | To authorize rail cars containing a combustible liquid to remain attached to unloading connectors without the physical presence of an unloader. (mode 2)
14201-N | PHMSA 05-21768 | Murray Air, Inc., Ypsilanti, MI | 49 CFR 172.101 Column (9B); 172.204(c)(3); 173.27(b)(2)(3); 175.30 | To authorize the transportation in commerce by cargo only aircraft of Class 1 explosives which are forbidden or exceed quantities presently authorized. (mode 4)
14204-N | PHMSA 05-21772 | Great Lakes Chemicals Corporation, Lafayette, IN | 49 CFR 173.226(b) and (d) | To authorize the transportation in commerce of bromine in single Monel packagings. (mode 1)
14222-N | PHMSA-21821 | Clean Harbors Environmental Services, Inc., Bridgeport, NJ | 49 CFR 173.240 | To authorize the transportation in commerce of a hazrdous waste (boiler stacks) on a flatbed motor vehicle. (mode 1)
14146-N | RSPA-20419 | Brunswick Corporation, Lake Forest, IL | 49 CFR 173.220(e) | To authorize the transportation in commerce of certain engines, machinery and apparatus with up to 120 ml (4 ounces) of flammable liquid fuel by vessel. (mode 3)
14166-N | PHMSA-20668 | Presidential Airways, Melbourne, FL | 49 CFR 172.101 Column (9B) | To authorize the transportation in commerce of certain Division 1.1, 1.2, 1.3 and 1.4 explosives which are forbidden or exceed quantities authorized for transportation by cargo aircraft only. (mode 4)
14173-N | PHMSA-20905 | Dow Chemical Company, Midland, MI | 49 CFR 179.13 | To authorize the transportation in commerce of ethylene oxide in DOT specification 105J400W tank cars that exceed the maximum allowable gross weight on rail (263,000 lbs.). (mode 2)
EE 14016-M | RSPA-04-19798 | Air Products & Chemicals, Inc., Allentown, PA | 49 CFR 106, 107 and 171-180 | To reissue the exemption originally issued as an emergency exemption, to authorize the transportation in commerce of Tungsten hexafluoride in DOT Specification 3BN cylinders that have been requalified by external visual inspection instead of hydrostatic retesting and internal visual inspection.
EE 11379-M |  | TRW Occupant Safety Systems, Washington, MI | 49 CFR 173.301(h), 173.302 | To modify the exemption to remove the five-year transportation limitation for completed air bag modules. (modes 1, 2, 3, 4)
EE 14160-M | PHMSA-05-20620 | George Mason University, Fairfax, VA | 49 CFR 173.336, 173.192 and 17340 | To reissue the exemption originally issued on an emergency basis for the one time transportation in commerce of two cylinders that are no longer authorized to contain nitrogen dioxide (they were filled in the early 60's.) (mode 1)
EE 13179-M | RSPA-02-14020 | Burlington Environmental dba, Philip Services Corp, Kent, WA | 49 CFR 173.21; 173.308 | To modify the exemption to include the additional modes of air and rail transporation for the transportation in commerce of lighters that have been removed from their approved inner packagings, are partially used, and are being transported for disposal without further approval. (mode 1)
EE 14005-M | RSPA-04-19585 | Scientific Cylinder International, LLC, Castle Rock, CO | 49 CFR 172.203(a), 172.301(c), 180.205(f)(4), 180.205(g), 180.209(a) | To modify the exemption to authorize the temporary, emergency authority to test cylinders at locations identified in Scientific Cylinder's application. (modes 1, 2, 3, 4, 5, 6)
EE 14006-M | RSPA-04-19586 | Scientific Cylinder International LLC, Castle Rock, CO | 49 CFR 172.203(a), 172.301(c), 180.205(f)(4), 180.205(g), 180.209(a) | To reissue the exemption originally issued on an emergency basis for the transportation of DOT Specification 3AL cylinders containing Division 2.1, 2.2 and 2.3 materials when retested by a 100% ultrasonic examination in lieu of the internal visual and hydrostatic retest. (modes 1, 2, 3, 4, 5, 6)
EE 14171-M | PHMSA-05-20832 | NASA, Houston, TX | 49 CFR 173.301(f) | To modify the exemption to allow transportation of a pressurized corrosive material. (modes 1, 4, 5)
EE 14181-M | PHMSA-2005-21089 | American Promotional Events, Florence, AL | 49 CFR 173.62 | To modify the exemption to allow more than 2 bulk packagings per common carrier and to increase the maximum capacity of the packaging. (mode 1)
EE 14116-N | RSPA-05-20123 | Green's Blue Flame Gas Co., Inc., Houston, TX | 49 CFR 173.315(k) | To authorize the transportation in commerce of a non-DOT specification 500 gallon storage tank containing approximately 350 gallons of propane one-time, one-way for remediation. (mode 1)
EE 14117-N | RSPA-05-20130 | MGP Ingredients, Inc., Atchison, KS | 49 CFR 180.509(h)(2) | To authorize the transportation in commerce of 65 DOT Specification stainless and steel tank cars which are overdue for inspection of the reclosing pressure relief devices. (mode 2)
EE 14118-N | PHMSA-05-21792 | Tooele County Emergency Management, Tooele, UT | 49 CFR 172.101 HMT, Column (9B) and 175.5(a)(2) | To authorize the transportation in commerce of Propane in DOT Specification 4B240 cylinders exceeding the weight limitations authorized for shipment by cargo aircraft in Utah. (mode 4)
EE 14145-N | PHMSA-05-20834 | T-AKE Navel Sea Systems Command, Washington, DC | 49 CFR 176.116 | To authorize the transportation in commerce of certain class 1 materials by vessel in an alternative stowage configuration. (mode 3)
EE 14147-N | RSPA-05-20420 | Clean Harbors Environmental Services, Inc., Greenbrier, TN | 49 CFR 173.244 | To authorize the one-time shipment of a Division 4.3 material in non-DOT specification bulk packaging by highway. (mode 1)
EE 14153-N | PHMSA-05-20470 | BASF Corporation, Florham Park, NJ | 49 CFR 173.227(c) | To authorize the one-time transportation in commerce of toxic liquid, corrosive, organic, N.O.S. in UN drums that do not have the required overpack. (mode 1)
EE 14160-N | PHMSA-05-20620 | George Mason University, Fairfax, VA | 49 CFR 173.336, 173.192 and 173.40 | To authorize the one time transportation in commerce of two cylinders that are no longer authorized to contain nitrogen dioxide. (mode 1)
EE 14165-N | PHMSA-05-20619 | Saint Louis, University—Center or Vaccine Development, St. Louis, MO | 49 CFR 173.196 | To authorize the transportation in commerce of infectious substances and diagnostic specimens in containers that are not authorized in the HMR. (mode 1)
EE 14169-N | PHMSA-05-20670 | Allied Universal Corporation, Miami, FL | 49 CFR 173.24, 179.300 | To authorize the one-time, one-way transportation in commerce of a leaking tank car tank that has been fitted with an emergency “B” chemical kit. The tank contains chlorine and an emergency exemption is necessary to protect life and the environment. (mode 1)
EE 14170-N | PHMSA-05-20714 | General Dynamics, Lincoln, NE | 49 CFR 173.302a | To authorize the transportation in commerce of certain compressed gases in non-DOT specification fiberglass reinforced plastic cylinders. (modes 1, 2, 4)
EE 14171-N | PHMSA-05-20832 | NASA, Houston, TX | 49 CFR 173.301(f) | To authorize the transportation in commerce of nitrogen in non-DOT specification cylinders without pressure relief devices in support a space shuttle. (modes 1, 4, 5)
EE 14182-N | PHMSA-05-21125 | Chugach Electric Association, Anchorage, AK | 49 CFR 172.101 (column 9b) | To authorize the transportation in commerce of certain materials that exceed quantity limitations when shipped by cargo aircraft. (mode 4)
EE 14192-N | PHMSA-05-21261 | Huntsman Corporation, The Woodlands, TX | 49 CFR part 173, subparts A and B | To authorize the transportation in commerce of several low pressure, high temperature reactors containing an oxidizer. (mode 1)
EE 14193-N | PHMSA-05-21763 | Honeywell, Morristown, NJ | 49 CFR 173.313 | To authorize the emergency transportation in commerce of Liquefied gas, toxic, flammable, inhalation hazard zone B, UN3160 in IMO type 5 portable tanks. (modes 1, 3)
EE 14194-N | PHMSA-05-21246 | Zippo Manufacturing Corporation, Bradford, PA | 49 CFR 173.21, 173.24, 173.27, 173.308, 175.5, 175.10, 175.30, 175.33 | Emergency exemption request to authorize the transportation of Zippo lighters in special travel containers in checked luggage in commercial passenger aircraft. (mode 5)
EE 14195-N | PHMSA-05-21795 | Burlington Environmental Inc., dba Philip Services Corporation, Kent, WA | 49 CFR 173.21 | To authorize the emergency transportation in commerce of cigarette lighters for disposal in certain non-bulk packagings by cargo-only aircraft within the State of Alaska. (modes 1, 4)
EE 14203-N | PHMSA-05-21438 | Alliant Techsystems, Inc. (ATK), Plymouth, MN | 49 CFR 172.203(a), 172.301(c), 178.3(c) and 178.503(a)(1) | Emergency request to authorize the transportation in commerce of 1.3C propellants contained in UN 1G fiber drums that have partial performance oriented packaging certification markings. (modes 1, 2, 3, 4, 5, 6)
EE 14208-N | PHMSA-05-21669 | Lockheed Martin Space Systems Company, Sunnyvale, CA | 49 CFR 173.226 and 173.336 | To authorize the one-way highway transportation in commerce of a fueled THADD Duvert and Attitude Control System assembly containing separate cylinders of methyl hydrazine and dimitrogen tetroxide. (mode 1)
EE 14211-N | PHMSA-05-21775 | Airgas, Vancouver, WA | 49 CFR 172.301(c), 173.301(f) | Emergency request to authorize the transportation in commerce of anhydrous ammonia in a DOT Specification 4AA480 cylinder that developed a leak and has an Ammonia Emergency Kit applied. (mode 1)
EE 14224-N | PHMSA-05-22355 | Petroleum Helicopters, Inc., Lafayette, LA | 49 CFR 172.101, 172.203(a), 172.301(c), 175.320(a) | To authorize the one time transportation in commerce of certain division 1.1 (1.1D) explosives which are forbidden by cargo aircraft. (mode 4)
EE 14181-N | PHMSA-05-21089 | American Promotional Events, Florence, AL | 49 CFR 173.62 | To authorize the transportation in commerce of fireworks in a non-DOT specification bulk container. (mode 1)
EMERGENCY EXEMPTION WITHDRAWN
EE 13169-M | RPSA-02-13894 | ConocoPhillips Alaska, Inc., Anchorage, AK | 49 CFR 172.101(9B) | To reissue the exemption originally issued on an emergency basis for the transportation of certain Class 3 materials in DOT Specification UN31A intermediate bulk containers which exceed quantity limitations when shipped by air. (mode 4)

DENIED
14142-N | Request by Arch Chemicals, Inc., Norwalk, CT, March 30, 2005 to authorize the transportation in commerce of a hazardous substance without marking, labeling or placarding when further packaged in a freight container.
14143-N | Request by Federal Industries Corporation, Plymouth, MN, May 17, 2005 to authorize the manufacture, marking and sale of a corrugated fiberboard box for use as the outer packaging for lab pack applications in accordance with § 173.21(b).
14136-N | Request by American Environmental Group, Norfolk, VA, February 11, 2005 to authorize the transportation in commerce of regulated medical waste in bulk outer packagings exceeding the quantity limitations provided in 49 CFR 173.197(d)(3)(i).
14177-N | Request by OraSure Technologies, Inc., Bethlehem, PA, April 19, 2005 to authorize the transportation in commerce of a Division 2.1 material in a DOT specification 2Q container without shipping papers, marking or labeling.
14198-N | Request by Pfizer, Inc., Memphis, TN, July 12, 2005 to authorize the one-way transportation in commerce of certain infectious substances in special packagings transported by a contract carrier.
14200-N | Request by RACCA, Plymouth, MA, August 10, 2005 to authorize the transportation in commerce of packagings previously used for hazardous materials that have not had the hazard warning labels removed and are used for non-hazard commodities.
141214-N | Request by Input/Output Marine Systems, Harahan, LA, August 23, 2005 to authorize the transportation in commerce of certain lithium batteries as materials of trade.

[FR Doc. 05-19527 Filed 9-29-05; 8:45 am]

BILLING CODE 4909-60-M